DEPARTMENT OF STATE

[Public Notice 7942]

Suggestions for Environmental Cooperation Pursuant to the United States-Korea Environmental Cooperation Agreement

AGENCY: Department of State.

ACTION: Notice of preparation of and request for comments regarding the first United States—Korea Environmental Cooperation Work Program.

SUMMARY: The Department invites the public, including NGOs, educational institutions, private sector enterprises and other interested persons, to submit written comments or suggestions regarding items for inclusion in the first Work Program for implementing the United States—Korea Environmental Cooperation Agreement, which entered into force on March 15, 2012. We encourage submitters to refer to: (1) The U.S.—Korea Environmental Cooperation Agreement; (2) Chapter 20 (Environment) of the U.S.—Korea Free Trade Agreement; and (3) the Environmental Review of the U.S.—Korea Free Trade Agreement. These documents are available at: http://www.state.gov/e/oes/env/trade/c49687.htm.

DATES: To be assured of timely consideration, all written comments or suggestions are requested no later than July 16, 2012.

ADDRESSES: Written comments or suggestions should be emailed to (MartirTorresMC@state.gov) or faxed ((202) 647-5947) to Maina Martir-Torres, Office of Environmental Policy, Bureau of Oceans and International Environmental and Scientific Affairs, U.S. Department of State, with the subject line “U.S.-Korea Environmental Cooperation.” If you have access to the Internet, you can view and comment on this notice by going to: http://www.regulations.gov/#!home and searching on docket number: DOS-2012-0040.

FOR FURTHER INFORMATION, CONTACT: Maina Martir-Torres, telephone (202) 647-4750.

SUPPLEMENTARY INFORMATION:

U.S.-Korea Environmental Cooperation Agreement

The United States—Korea Environmental Cooperation Agreement (ECA) entered into force on March 15, 2012. The United States and Korea negotiated the ECA in parallel with the U.S.—Korea Free Trade Agreement. The ECA establishes a framework to promote cooperation on environmental protection, sustainable management of natural resources, conservation and protection of biodiversity, and strengthening of environmental law enforcement. Article 3 of the ECA establishes the Environmental Cooperation Commission (ECC), which is responsible for developing programs of work that reflect the parties' priorities for cooperative environmental activities.

We are requesting suggestions for cooperative environmental activities to consider for inclusion in the first Work Program. For additional information, please visit: http://www.state.gov/e/oes/env/trade/c49687.htm.

Disclaimer: This Public Notice is a request for comments and suggestions, and is not a request for applications. No granting of money is directly associated with this request for suggestions for the Work Program and Plan of Action. There is no expectation of resources or funding associated with any comments or suggestions for the Work Program or the Plan of Action.

Dated: June 22, 2012.
George Sibley,
Director, Office of Environmental Policy, Department of State.

[FR Doc. 2012-16141 Filed 6-29-12; 8:45 am]

BILLING CODE 4710-09-P